DEPARTMENT OF LABOR

Employment and Training Administration

[TA-W-61,707]

Dana Corporation, Torque-Traction Manufacturing, Inc., Including On-Site Leased Workers of Diversco Integrated Services, Inc. and Haas Total Chemical Management, Inc., Cape Girardeau, MS; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on July 23, 2007, applicable to workers of Dana Corporation, Torque-Traction Manufacturing, Inc., Cape Girardeau, Missouri. The notice was published in the Federal Register on August 9, 2007 (72 FR 44865). The certification was amended on October 1, 2007 include on-site leased workers. The notice was published in the Federal Register on October 5, 2007 (72 FR 57069-57070).

On our own motion, the Department reviewed the certification for workers of the subject firm. The workers are engaged in the production of a variety of automotive axle components.

New information shows that leased workers of Diversco Integrated Services, Inc. and Haas Total Chemical Management, Inc. were employed on-site at the Cape Girardeau, Missouri location of Dana Corporation, Torque-Traction Manufacturing, Inc. The Department has determined that these workers were sufficiently under the control of Dana Corporation, Torque-Traction Manufacturing, Inc. to be considered leased workers.

The same worker group of Dana Corporation was under a previous certification that remained in effect until July 29, 2007; therefore the current impact date will read July 30, 2007.

Since leased workers were not included in the now expired certification, their impact date will reach back a full year from the original petition date and will read June 18, 2006.

Based on these findings, the Department is amending this certification to include leased workers of Diversco Integrated Services, Inc., and Haas Total Chemical Management, Inc. working on-site at the Cape Girardeau, Missouri location of the subject firm and clarify the eligibility dates.

The intent of the Department's certification is to include all workers employed at Dana Corporation, Torque-Traction Manufacturing, Inc., Cape Girardeau, Missouri who were adversely affected by a shift in production to Mexico.

The amended notice applicable to TA-W-61,707 is hereby issued as follows:

All workers of Dana Corporation, Torque-Traction Manufacturing, Inc., Cape Girardeau, Missouri, who became totally or partially separated from employment on or after July 30, 2007, through July 23, 2009, are eligible to apply for adjustment assistance under Section 223 of the Trade Act of 1974, and are also eligible to apply for alternative trade adjustment assistance under Section 246 of the Trade Act of 1974. and;

All on-site leased workers of Diversco Integrated Services, Inc., and Haas Total Chemical Management, Inc. working at Dana Corporation, Torque-Traction Manufacturing, Inc, Cape Girardeau, Missouri, who became totally or partially separated from employment on or after June 18, 2006, through July 23, 2009, are eligible to apply for adjustment assistance under Section 223 of the Trade Act of 1974, and are also eligible to apply for alternative trade adjustment assistance under Section 246 of the Trade Act of 1974.

Signed at Washington, DC this 5th day of October, 2007.
Richard Church,
Certifying Officer, Division of Trade Adjustment Assistance.

[FR Doc. E7-20401 Filed 10-16-07; 8:45 am]

BILLING CODE 4510-FN-P